DEPARTMENT OF HEALTH AND HUMAN SERVICES

Food and Drug Administration

Consumer Roundtable; Notice of Meeting

AGENCY: Food and Drug Administration, HHS.

ACTION: Notice.

The Food and Drug Administration (FDA) is announcing the following meeting: Consumer roundtable to discuss consumer protection priorities for the agency. The roundtable will provide an opportunity for FDA to engage in an open dialogue with individual consumer stakeholders on a variety of regulatory and consumer oriented issues. The roundtable is part of the agency's ongoing consultation with stakeholders.

Date and Time: The meeting will be held on December 13, 2000, 9 a.m. to 4 p.m.

Location: The meeting will be held at the Penthouse Conference Room, Hubert H. Humphrey Bldg., 200 Independence Ave. SW., Washington, DC.

Contact: Karen R. Mahoney, Office of Consumer Affairs (HFE-88), Food and Drug Administration, 5600 Fishers Lane, Rockville, MD 20857, 301-827-4393, FAX 301-827-2866, e-mail: kmahoney@oc.fda.gov.

Registration: Preregistration is required as space is limited. Send registration information (including name, title, organization name, address, telephone, fax number, and e-mail) to the contact person by December 6, 2000.

If you need special accommodations due to a disability, please contact Karen R. Mahoney (address above) at least 7 days in advance.

Background information on this meeting will be available on the FDA Internet site at http://www.fda.gov/opacom/hpmeetings.html.

Transcripts: Transcripts of the meeting may be requested in writing from the Freedom of Information Office (HFI-35), Food and Drug Administration, 5600 Fishers Lane, rm. 12A-16, Rockville, MD 20857, approximately 15 working days after the meeting at a cost of 10 cents per page.

Dated: November 9, 2000.
Margaret M. Dotzel,
Associate Commissioner for Policy.

[FR Doc. 00-29424 Filed 10-15-00; 8:45 am]

BILLING CODE 4160-01-F